DEPARTMENT OF AGRICULTURE

Forest Service

Northeast Oregon Forests Resource Advisory Committee (RAC)

AGENCY: Forest Service, USDA.

ACTION: Notice of meetings.

SUMMARY: Pursuant to the authorities in the Federal Advisory Committees Act (Pub. L. 92-463), the Northeast Oregon Forests Resource Advisory Committee (RAC) will meet on September 25, 2003 in John Day, Oregon. The purpose of the meeting is to meet as a Committee to complete business items identified at the May 15 meeting.

DATES: The meeting will be held as follows: September 25, 2003, 8 a.m. to 3:30 p.m., John Day, Oregon.

ADDRESSES: The September 25, 2003 meeting will be held at the Malheur National Forest Supervisors Office, 431 Patterson Bridge Road, John Day, Oregon.

FOR FURTHER INFORMATION CONTACT: Jennifer Harris, Designated Federal Official, USDA, Malheur National Forest, P.O. Box 909, John Day, Oregon 97845. Phone: (541) 575-3008.

SUPPLEMENTARY INFORMATION: At the September 25 meeting the RAC will receive an update of how the fiscal year 2002 and fiscal year 2003 projects are progressing, discuss replacement RAC members and re-chartering of the RAC, allocate remaining fiscal year 2004 dollars to existing projects, and review project issues. A public comment period will be provided at 1:15 p.m. and individuals will have the opportunity to address the committee at that time.

Dated: September 4, 2003.
Jennifer L. Harris,
Designated Federal Official.

[FR Doc. 03-23209 Filed 9-11-03; 8:45 am]

BILLING CODE 3410-DK-M